DEPARTMENT OF TRANSPORTATION

Federal Aviation Administration

Advisory Circular (AC) 21-16E, RTCA, Inc. Document RATCA/DO-160E, Environmental Conditions and Test Procedures for Airborne Equipment

AGENCY: Federal Aviation Administration (DOT).

ACTION: Notice of availability and request for public comment.

SUMMARY: This notice announces the availability of and requests comments on Advisory Circular (AC) 21-16E, RTCA, Inc. Document (RTCA/DO)-160E, Environmental Conditions and Test Procedures for Airborne Equipment. This AC tells those applicants seeking approval for type certificates, supplemental type certificates, and technical standard order (TSO) authorizations, that RTCA/DO-160E, dated December 9, 2004, is the latest version of RTCA/DO-160 containing acceptable environmental qualifications for showing compliance with airworthiness requirements.

DATES: Comments must be received on or before August 19, 2005.

ADDRESSES: Send all comments on the proposed AC to: Federal Aviation Administration (FAA), Aircraft Certification Service, Aircraft Engineering Division, Avionic Systems Branch, AIR-130, 800 Independence Avenue, SW., Washington, DC 20591. Attn: Ms. Dara Gibson. Or deliver comments to: Federal Aviation Administration, Room 815, 800 Independence Avenue, SW., Washington, DC 20591.

FOR FURTHER INFORMATION CONTACT: Ms. Dara Gibson, AIR-130, Room 815, Federal Aviation Administration, Aircraft Certification Service, Aircraft Engineering Division, 800 Independence Avenue, SW., Washington, DC 20591. Telephone (202) 385-4632, fax: (202) 385-4651. Or, via e-mail at: dara.gibson@faa.gov.

SUPPLEMENTARY INFORMATION:

Comments Invited

Interested persons are invited to comment on the AC listed in this notice by submitting such written data, views, or arguments as they desire to the above specified address. Comments received on the AC may be examined, before and after the comment closing date, in Room 815, FAA Headquarters Building, 800 Independence Avenue, SW., Washington, DC 20591, weekdays except Federal holidays, between 8:30 a.m. and 4:30 p.m. The Director, Aircraft Certification Service, will consider all communications received on or before the closing date before issuing the final AC.

Background

When following the guidance and procedures outlined in RTCA/DO-160E, Environmental Conditions and Test Procedures for Airborne Equipment, dated December 9, 2004, you are assured your airborne equipment will perform its intended functions by demonstrating compliance with the appropriate airworthiness regulations. Compliance is assured by adhering to the instructions contained in RTCA/DO-160E, which specifies a series of minimum standard environmental test conditions and applicable test procedures for airborne equipment. The purpose of the tests is to determine the performance characteristics of airborne equipment in environmental conditions representative of those that may be encountered in airborne operation of the equipment.

How To Obtain Copies

You may get a copy of the AC from the Internet at: http://www.airweb.faa.gov/rgl. Once on the RGL Web site, select “Advisory Circular”, then select the document by number. See section entitled FOR FURTHER INFORMATION CONTACT for the complete address if requesting a copy by mail. You may inspect the RTCA document at the FAA office location listed under ADDRESSES. Note however, RTCA documents are copyrighted and may not be reproduced without the written consent of RTCA, Inc. You may purchase copies of RTCA, Inc. documents from: RTCA, Inc., 1828 L Street, NW., Suite 815, Washington, DC 20036, or directly from their Web site: http://www.rtca.org/.

Issued in Washington, DC, on July 13, 2005.
Susan J. M. Cabler,
Assistant Manager, Aircraft Engineering Division, Aircraft Certification Service.

[FR Doc. 05-14253 Filed 7-19-05; 8:45 am]

BILLING CODE 4910-13-M